DEPARTMENT OF THE INTERIOR

Bureau of Land Management

[LLUT920-09-L13200000-EL000, UTU-88021]

Notice of Invitation to Participate In Coal Exploration License, Utah

AGENCY: Bureau of Land Management, Interior.

ACTION: Notice of Invitation to Participate in Coal Exploration License.

SUMMARY: All interested qualified parties are hereby invited to participate with PacifiCorp on a pro rata cost sharing basis in its program for the exploration of coal deposits owned by the United States of America in Emery County, Utah.

DATES: The notice of invitation to participate in this coal exploration license was published, once each week for 2 consecutive weeks, in the Emery County Progress (beginning the second week of August 2010), and by virtue of this announcement in the Federal Register.

Any person seeking to participate in this exploration program must send written notice to both the Bureau of Land Management (BLM) and PacifiCorp, as provided in the ADDRESSES section below, no later than January 24, 2011.

ADDRESSES: Copies of the exploration license and plan are available for review from 7:30 a.m. to 4:30 p.m., Monday through Friday, excluding Federal holidays (serialized under the number of UTU-88021) in the public room of the BLM State Office, 440 West 200 South, Suite 500, Salt Lake City, Utah.

The written notice to participate in the exploration program should be sent to Stan Perkes, Bureau of Land Management, Utah State Office, Division of Lands and Minerals, P.O. Box 45155, Salt Lake City, Utah 84145 and Scott Child, Manager, Lands and Regulatory Affairs, PacifiCorp, c/o Interwest Mining Company, 1407 West North Temple, Suite 310, Salt Lake City, Utah 84116.

FOR FURTHER INFORMATION CONTACT: Stan Perkes by telephone at 801-539-4036, or by e-mail: Stan_Perkes@blm.gov.

SUPPLEMENTARY INFORMATION: The exploration activities will be performed pursuant to the Mineral Leasing Act of 1920, as amended, 30 U.S.C. 201(b), and to the regulations at 43 CFR part 3410. The purpose of the exploration program is to gain additional geologic knowledge of the coal underlying the exploration area for the purpose of assessing the coal resources. The exploration program is fully described and is being conducted pursuant to an exploration license and plan approved by the BLM. The exploration plan may be modified to accommodate the legitimate exploration needs of persons seeking to participate. The area to be explored includes the following-described lands in Emery County, Utah:

Salt Lake Meridian, Utah

T. 16 S., R. 6 E.,

Sec. 22, SE¼SE¼;

Sec. 23, S½S½;

Sec. 24, S½;

Sec. 25, W½;

Sec. 26, all; and

Sec. 27, E½E½.

Salt Lake Meridian, Utah

T. 16 S., R. 7 E.,

Sec. 19, lot 4, E½NE¼, E½W½NE¼; and

Sec. 20, N½NW¼, W½SW¼NW¼, W½E½SW¼NW¼.

Containing 1,892.78 acres.

The Federal coal within the above-described lands is currently not leased for development of Federal coal resources.

Authority: 43 CFR 3410.2-1(c)(1).

Jeff Rawson,
Associate State Director.

[FR Doc. 2010-32315 Filed 12-22-10; 8:45 am]

BILLING CODE 4310-DQ-P